DEPARTMENT OF STATE

Office of Global Educational Programs (ECA/A/S)

[Public Notice 3967]

60-Day Notice of Proposed Information Collection: Fulbright Teacher and Administrator Exchange Program Application Package; OMB No. 1405-0114

ACTION: Notice.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal to be submitted to OMB:

Type of Request: Reinstatement with change of a previously approved collection for which approval has expired.

Originating Office: Office of Global Educational Programs (ECA/A/S).

Title of Information Collection: Fulbright Teacher and Administrator Exchange Program Application Package.

Frequency: Annual.

Form Number:

Respondents: Educators desiring to participate in the Fulbright Teacher and Administrator Exchange Program.

Estimated Number of Respondents: 862.

Average Hours Per Response: 2.

Total Estimated Burden: 1724.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR ADDITIONAL INFORMATION: Public comments, or requests for additional information, regarding the collection listed in this notice should be directed to Rachel Waldstein, Program Officer, (ECA/A/S/X); Department of State, SA-44, Room 349; 301 Fourth St., SW; Washington, DC 20547 who may be reached on (202) 619-4556.

Dated: February 8, 2002.
David Whitten,
Executive Director, ECA-IIP, Department of State.

[FR Doc. 02-7806 Filed 3-29-02; 8:45 am]

BILLING CODE 4710-05-P